NATIONAL CREDIT UNION ADMINISTRATION

Notice of Meeting

Time and Date: 9 a.m., Thursday, November 16, 2006.

Place: Board Room, 7th Floor, Room 7047, 1775 Duke Street, Alexandria, VA 22314-3428.

Status: Open.

Matters to be Considered:

1. NCUA's 2007 Annual Performance Budget.

2. NCUA's 2007/2008 Operating Budget.

3. NCUA's Overhead Transfer Rate.

4. NCUA's 2007 Operating Fee Scale.

5. Final Rule: Part 740 of NCUA's Rules and Regulations, Accuracy of Advertising and Notice of Insured Status.

Recess: 10:15 a.m.

Time and Date: 10:30 a.m., Thursday, November 16, 2006.

Place: Board Room, 7th Floor, Room 7047, 1775 Duke Street, Alexandria, VA 22314-3428.

Status: Closed.

Matters to be Considered:

1. One (1) Insurance Appeal. Closed pursuant to Exemption (6).

For Further Information Contact: Mary Rupp, Secretary of the Board, Telephone: 703-518-6304.

Mary Rupp,
Secretary of the Board.

[FR Doc. 06-9208 Filed 11-9-06; 2:51 pm]

BILLING CODE 7535-01-M